DEPARTMENT OF DEFENSE

Department of the Army

Prospective Grant of a Partially Exclusive License

AGENCY: Department of the Army, DoD.

ACTION: Notice of intent.

SUMMARY: In accordance with the provisions of 15 U.S.C. 209(c)(1) and 37 CFR part 404.7(a)(1)(I), U.S. Army Soldier and Biological Chemical Command (SBCCOM) hereby gives notice that it is contemplating the grant of a partially exclusive license in the United States to practice the inventions embodied in U.S. Patents 5,884,418, issued March 23, 1999, entitled, “Process and System for Impregnating Garments with Insect Repellent” and 5,930,909, issued August 3, 1999, entitled, “System for Impregnating Garments with Insect Repellent” to Spinnerin Dye, LLC having a place of business in South Hackensack, New Jersey and Buzz Off Insect Shield, LLC having a place of business in Greensboro, North Carolina.

FOR FURTHER INFORMATION CONTACT: Mr. Robert Rosenkrans at U.S. Army Soldier and Biological Chemical Command, Kansas Street, Natick, MA 01760, Phone: (508) 233-4928 or E-mail: Robert.Rosenkrans@natick.army.mil.

SUPPLEMENTARY INFORMATION: The prospective partially exclusive licenses will be royalty bearing and will comply with the terms and conditions of 35 U.S.C. 209 and 37 CFR 404.7. The prospective exclusive licenses may be granted, unless SBCCOM receives written evidence and argument to establish that the grant of the license would not be consistent with the requirements of 35 U.S.C. 209 and 37 CFR 404.7. Written objections along with supporting evidence, if any, are to be filed on or before August 20, 2002.

Luz D. Ortiz,
Army Federal Register Liaison Officer.

[FR Doc. 02-19703 Filed 8-2-02; 8:45 am]

BILLING CODE 3710-08-M